DEPARTMENT OF COMMERCE

National Oceanic and Atmospheric Administration

RIN 0648-XG587

New England Fishery Management Council; Public Meeting

AGENCY: National Marine Fisheries Service (NMFS), National Oceanic and Atmospheric Administration (NOAA), Commerce.

ACTION: Notice of public meeting.

SUMMARY: The New England Fishery Management Council's is convening an ad-hoc sub-panel of its Scientific and Statistical Committee. Recommendations from this group will be brought to the full Council for formal consideration and action, if appropriate.

DATES: The meeting will be held on Friday, November 30, 2018 at 9 a.m.

ADDRESSES: The meeting will be held at the Hotel Providence, 139 Mathewson Street, Providence, RI 02903; phone: (401) 861-8000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The New England Fishery Management Council is convening an ad-hoc sub-panel of its Scientific and Statistical Committee to review a report from the Fishery Data for Stock Assessment Working Group. The panel will review the working group's work on the following tasks: Explain how fishery dependent and fishery independent data are used in stock assessments, including how different data elements are used and interact in an age-based analytic assessment; Summarize the theoretical utility and limitations of using catch per unit effort (CPUE) and landings per unit effort (LPUE) as indexes of abundance for Northeast multispecies (groundfish) stocks, including recent efforts to create a CPUE for any of these stocks and the results of those efforts; Identify the fishery factors and fishery dependent data needed to create a CPUE that would be a reliable index of abundance for Northeast multispecies stocks—without regard to existing fishing practices, regulations, or monitoring systems; Compare the desired factors identified with existing conditions and data for the fishery through a gap analysis of factors and data needed, as well as the analytical approaches necessary, to create a CPUE that would be a reliable index of abundance for Northeast multispecies stocks. Other business will be discussed as needed.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: November 5, 2018.
Tracey L. Thompson,
Acting Deputy Director, Office of Sustainable Fisheries, National Marine Fisheries Service.

[FR Doc. 2018-24431 Filed 11-7-18; 8:45 am]

BILLING CODE 3510-22-P